DEPARTMENT OF THE INTERIOR

Bureau of Reclamation

[RR06450000, 19XR0680A4, RX.08254998.0010010]

Off-Road Vehicle Designation for the San Angelo Project, Texas

AGENCY: Bureau of Reclamation, Interior.

ACTION: Notice of off-road vehicle designation.

SUMMARY: This notice announces the Bureau of Reclamation's designation of areas for authorized off-road vehicle (ORV) use on Federal lands surrounding Twin Buttes Reservoir, which is part of the Bureau of Reclamation's San Angelo Project in Tom Green County, Texas.

DATES: This ORV designation is effective immediately and is permanent until canceled, amended, or replaced by the Bureau of Reclamation.

ADDRESSES: A copy of the off-road designation, including the Environmental Assessment and Finding of No Significant Impact, is available at https://www.usbr.gov/gp/otao/.

FOR FURTHER INFORMATION CONTACT: Mr. Trent Parish, Bureau of Reclamation, Oklahoma-Texas Area Office, 5316 Highway 290 West, Suite 110, Austin, TX 78735; (512) 899-4150; or email jparish@usbr.gov.

SUPPLEMENTARY INFORMATION: The use of off-road vehicles on public lands associated with Twin Buttes Reservoir, TX must be designated in accordance with 43 CFR 420 and other applicable Federal rules and regulations. In recognition of this, and with the prerequisite to ensure compliance with such Federal regulations, Reclamation, Texas Parks Wildlife Department, and the City of San Angelo completed a comprehensive inventory and condition assessment of existing resources, and coordinated extensively with local stakeholders to seek input from the public on preferred ORV uses, as well on overall recreation priorities. Federal lands were evaluated according to criteria outlined in 43 CFR 420.22 to determine their suitability for ORV use. This included all Federal lands associated with the San Angelo Project and Twin Buttes Reservoir located within Tom Green County, Texas. The assessment resulted in the proposed designation of 73 miles of trails and three ORV areas. This designation is the culmination of resource considerations and public involvement integrated into an Environmental Assessment and Finding of No Significant Impact (19-18-TX-SA) that were completed in accordance with the National Environmental Protection Act of 1969.

The ORV designation includes:

(a) Approximately 56 miles of designated access routes. Access routes provide reasonable access to lands surrounding Twin Buttes Reservoir's North and South Pools.

(b) Approximately 17 miles of Motorcycle/All-Terrain Vehicle (Moto/ATV) routes. Moto/ATV routes are a network of one-directional trails designated for motorized use by motorcycles and small ATVs

(c) Approximately 338 acres of ORV areas. The ORV areas are comprised of three separate tracts of land with variable terrain requiring more diverse ORV skill levels.

Mark A. Treviño,
Oklahoma—Texas Area Manager, Bureau of Reclamation, Arkansas-Rio Grande-Texas-Gulf—Interior Region 6.

[FR Doc. 2020-10349 Filed 5-13-20; 8:45 am]

BILLING CODE 4332-90-P